NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 22, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-02-14, 103 items, 103 temporary items). Electronic copies of documents created using electronic mail and word processing that relate to command and control and to flying, missile, space, and other operations as well as electronic records that supplement or replace paper records relating to these matters that were previously approved for disposal. Records pertain to such subjects as wartime planning, Joint Chiefs of Staff communications, combat operations, search and rescue missions, space and missile operations, electronic warfare, radar, air defense and surveillance, planning for exercises and maneuvers, flight operations, aircrew management and training, aircraft utilization, air traffic control, and airfield management.

2. Department of the Air Force, Agency-wide (N1-AFU-02-15, 81 items, 81 temporary items). Electronic copies of documents created using electronic mail and word processing that relate to communications as well as electronic records that supplement or replace paper records relating to communications that were previously approved for disposal. Records relate to such subjects as systems policy and guidance, program management, general operations, telephone services, radio stations, communications security, and telecommunications service leasing.

3. Department of the Air Force, Agency-wide (N1-AFU-02-16, 93 items, 93 temporary items). Electronic copies of documents created using electronic mail and word processing that relate to Air Force health services, medical education, and the aerospace medicine program as well as electronic records that supplement or replace paper records relating to these matters that were previously approved for disposal. Records relate to such subjects as medical meetings, physical examinations, aeromedical evacuation, medical logistics, the treatment of patients, hospital accreditation, radiology, aerospace medicine programs, and bioenvironmental surveys.

4. Department of the Army, Agency-wide (N1-AU-02-13, 2 items, 1 temporary item). Electronic copies of documents created using electronic mail and word processing that relate to advanced technology assessments. Recordkeeping copies of these files are proposed for permanent retention. This schedule authorizes the agency to apply the proposed disposition instructions to any recordkeeping medium.

5. Department of the Army, Agency-wide (N1-AU-02-14, 2 items, 2 temporary items). Records relating to Army Reserve military technician requirement exceptions, including requests to extend active military status and exceptions to same unit and same skills requirements. Also included are electronic copies of documents created using electronic mail and word processing. This schedule authorizes the agency to apply the proposed disposition instructions to any recordkeeping medium.

6. Department of Defense, Defense Commissary Agency (N1-506-02-2, 26 items, 26 temporary items). Short term records relating to internal agency evaluations and the equal employment opportunity (EEO) program. Included are such records as internal reviews and supporting documentation, copies of audits conducted by the General Accounting Office, the Department of Defense Inspector General, and the Defense Contract Audit Agency, EEO instructions, and files relating to special EEO events and awards. Also included are electronic copies of documents created using electronic mail and word processing. This schedule authorizes the agency to apply the proposed disposition instructions to any recordkeeping medium.

7. Department of Defense, Defense Information Systems Agency (N1-371-02-4, 18 items, 16 temporary items). Inspector general records. Included are such records as routine inspection reports, inspection work papers, complaint and investigation files, internal audit files, and audit reports. Also included are electronic copies of documents created using electronic mail and word processing. Recordkeeping copies of selected inspection reports are proposed for permanent retention.

8. Department of the Interior, Office of the Secretary (N1-48-01-3, 12 items, 11 temporary items). Records relating to Year 2000 (Y2K) Computer Century Conversion activities, including policies and planning, budget matters, actions take to protect specific systems, web pages, and electronic copies of records created using electronic mail or word processing systems. Proposed for permanent retention are Y2K informational posters and Y2K public awareness videotapes.

9. Department of State, Bureau of Political-Military Affairs (N1-59-01-22, 30 items, 22 temporary items). Records of the Office of Defense Trade Controls relating to the regulation of the export of defense articles and services. Records include arms export case files, arms exporter license registration files, disclosure files, correspondence files, and procedures files. Also included are electronic copies of documents created using electronic mail and word processing. Proposed for permanent retention are recordkeeping copies of reports on exports, international arms traffic regulations files, technical assistance to foreign countries agreement files, and compliance files. Also proposed for permanent retention is a database containing information about munitions-related items being sent to foreign countries.

10. Department of State, Bureau of Political-Military Affairs (N1-59-01-18, 14 items, 7 temporary items). Electronic copies of documents created in the Office of Plans, Policy, and Analysis using electronic mail and word processing. Proposed for retention are recordkeeping copies of files on small arms and light weapons, critical infrastructure and information security, non-lethal weapons, security assistance, land mine policy, defense planning, and defense trade.

11. Department of Transportation, Federal Motor Carrier Safety Administration (N1-557-01-1), 9 items, 9 temporary items). Inputs, master files, outputs, and system documentation pertaining to the Licensing and Insurance System, an electronic system relating to the issuance of interstate operating authority for for-hire motor carriers, freight forwarders, and property brokers. Data includes applications for operating authorities, designation of process agents, certifications of insurance, surety bonds, and cancellation notices. Also included are electronic copies of documents created using electronic mail and word processing.

12. Department of the Treasury, Bureau of Alcohol, Tobacco and Firearms (N1-436-02-1, 4 items, 4 temporary items). Records of polygraph examinations given as part of criminal investigations or pre-employment applicant screening. This schedule reduces the retention period for employment examinations, which were previously approved for disposal. Also included are electronic copies of documents created using electronic mail and word processing.

13. Department of Veterans Affairs, Veterans Health Administration (N1-15-01-3, 10 items, 8 temporary items). Paper and electronic records used by the Environmental Agents Service to create, update, and modify records in the Agent Orange Registry, including electronic copies of records created using electronic mail and word processing. The registry is used to track patient demographics, generate hypotheses for research studies, report birth defects among veterans' children, and assist in the planning and delivery of health care services. The master data files maintained on optical disk and related documentation are proposed for permanent retention.

14. Department of Veterans Affairs, Veterans Health Administration (N1-15-01-4, 7 items, 7 temporary items). Paper and electronic records relating to the National Prosthetic Patient Database, including electronic copies of records created using electronic mail and word processing. Records include personal identifying information of patients, names of suppliers and issuers, transaction descriptions, and other information pertaining to the procurement of prosthetic devices.

15. Administrative Office of the U.S. Courts, Office of the General Counsel (N1-116-02-2, 6 items, 5 temporary items). Legal precedent reference files, tort claims files, and citizen and prisoner correspondence files. Also included are electronic copies of documents created using electronic mail and word processing. Recordkeeping copies of tort claims involving extensive litigation or widespread media attention are proposed for permanent retention. Recordkeeping copies of the legal precedent subject files were previously scheduled for permanent retention.

16. Environmental Protection Agency, Office of Prevention, Pesticides, and Toxic Substances (N1-412-01-7, 3 items, 2 temporary items). Records accumulated in connection with citizen petitions for changes to rules relating to the Toxic Substances and Control Act that have been microfilmed. Also included are electronic copies of documents created using electronic mail and word processing. Microfilm copies of records and paper records that have not been filmed are proposed for permanent retention.

Dated: May 24, 2002.
Michael J. Kurtz,
Assistant Archivist for Record Services—Washington, DC.

[FR Doc. 02-13862 Filed 6-4-02; 8:45 am]

BILLING CODE 7515-01-P